FEDERAL RETIREMENT THRIFT INVESTMENT

Board Member Meeting

77 K Street NE, 10th Floor, Washington, DC 20002.

September 16, 2019, 8:30 a.m., In-Person.

Open Session

1. Approval of the August 27, 2019 Board Meeting Minutes

2. Investment Manager Annual Service Review

3. Monthly Reports

(a) Participant Activity Report

(b) Investment Policy

(c) Legislative Report

4. Quarterly Report

(d) Vendor Risk Management Update

5. FY20 Budget Review and Approval

6. Mid-Year Financial Audit

7. Withdrawal Project Update

Closed Session

Information covered under 5 U.S.C. 552b (c)(4), (c)(9)(B), (c)(10).

Contact Person for More Information: Kimberly Weaver, Director, Office of External Affairs, (202) 942-1640.

Dated: September 5, 2019.
Megan Grumbine,
General Counsel, Federal Retirement Thrift Investment Board.

[FR Doc. 2019-19549 Filed 9-9-19; 8:45 am]

BILLING CODE 6760-01-P